DEPARTMENT OF ENERGY

Federal Energy Regulatory Commission

[Docket No. RP98-52-038]

Williams Gas Pipeline-Central, Inc.; Notice of Superseding Offer of Settlement

August 9, 2000.

Take notice that on August 7, 2000, the Missouri Public Services Commission, Williams Gas Pipelines-Central, Inc., formerly Williams Natural Gas Company, Missouri Gas Energy, a division of Southern Union Company, and forth-three working interest owners (collectively called Sponsoring Parties) filed a Superseding Offer of Settlement (Superseding Offer) under Rule 602 of the Commission's Rules of Practice and Procedure in the captioned docket. Sponsoring Parties state the purpose of the Superseding Offer is to facilitate settlement and mitigate administrative burdens resulting from the Commission's implementation of the decision of the United States Court of Appeals for the District of Columbia Circuit in Public Service Company of Colorado.¹ The Sponsoring Parties further state the Superseding Offer replaces and supersedes the Offer of Settlement filed in Docket No. RP98-52-000 on October 1, 1999. A copy of the Superseding Offer is on file with the Commission and is available for public inspection in the Public Reference Room. The Offer of Settlement may be viewed on the web at http://www.ferc.fed.us/online/rims.htm (call 202-208-2222 for assistance).

¹ Public Service Co. of Colorado, et al., 80 FERC ¶ 61,264 (1997), reh'g denied, 82 FERC ¶ 61,058 (1998). Appeal pending. Anadarko Petroleum Corporation v. FERC, Case No. 98-1227 et al.

The Superseding Offer would increase the credit towards the Kansas ad valorem tax refund liability from $50,000 to $100,000 and apply the credit to 309 working interest owners identified by certain operators as well as to each operator that has not provided working interest owner information. Sponsoring Parties state that the Superseding Offer would eliminate the claimed refund obligation for 289 working interest owners and 27 operators who have not provided working interest owner data.

In accordance with section 385.602(f), initial comments on the Superseding Offer are due August 28, 2000, and any reply comments are due September 7, 2000.

David P. Boergers,
Secretary.

[FR Doc. 00-20663 Filed 8-14-00; 8:45 am]

BILLING CODE 6717-01-M